DEPARTMENT OF LABOR

Office of Federal Contract Compliance Programs

Proposed Renewal of the Approval of Information Collection Requirements; Comment Request

ACTION: Notice.

SUMMARY: The Department of Labor (DOL), as part of its continuing effort to reduce paperwork and respondent burden, conducts a pre-clearance consultation program to provide the public and Federal agencies with an opportunity to comment on proposed and/or continuing collections of information in accordance with the Paperwork Reduction Act of 1995 (PRA). The program helps ensure that requested data can be provided in the desired format, reporting burden (time and financial resources) is minimized, collection instruments are clearly understood, and the impact of collection requirements on respondents can be properly assessed. The Office of Federal Contract Compliance Programs (OFCCP) is soliciting comments concerning its proposal to obtain approval from the Office of Management and Budget (OMB) for renewal of the information collection for its Contractor Portal interface (formerly the “Affirmative Action Program Verification Interface”). A copy of the proposed information collection request can be obtained by contacting the office listed below in the FOR FURTHER INFORMATION CONTACT section of this notice or by accessing it at www.regulations.gov.

DATES: Written comments must be submitted to the office listed in the addresses section below on or before February 12, 2024.

ADDRESSES: You may submit comments by any of the following methods:

Electronic comments: The Federal eRulemaking portal at www.regulations.gov. Follow the instructions found on that website for submitting comments.

Mail, Hand Delivery, Courier: Addressed to Tina T. Williams, Acting Deputy Director of OFCCP and Director of Policy & Program Development, Office of Federal Contract Compliance Programs, 200 Constitution Avenue NW, Room C-3325, Washington, DC 20210.

Instructions: Please submit one copy of your comments by only one method. For faster submission, we encourage commenters to transmit their comment electronically via the www.regulations.gov website. Comments that are mailed to the address provided above must be postmarked before the close of the comment period. All submissions must include OFCCP's name for identification. Comments submitted in response to the notice, including any personal information provided, become a matter of public record and will be posted on www.regulations.gov. Comments will also be summarized and/or included in the request for OMB approval of the information collection request.

FOR FURTHER INFORMATION CONTACT: Tina T. Williams, Acting Deputy Director of OFCCP and Director of Policy & Program Development, Office of Federal Contract Compliance Programs, 200 Constitution Avenue NW, Room C-3325, Washington, DC 20210. Telephone: (202) 693-0103 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

I. Background

OFCCP administers and enforces the three equal employment opportunity authorities listed below:

• Executive Order 11246, as amended (E.O. 11246);

• Section 503 of the Rehabilitation Act of 1973, as amended (Section 503); and

• Vietnam Era Veterans' Readjustment Assistance Act of 1974, as amended (VEVRAA).

These authorities prohibit employment discrimination by covered Federal contractors and subcontractors and require that they provide equal employment opportunities regardless of race, color, religion, sex, sexual orientation, gender identity, national origin, disability, or status as a protected veteran. Additionally, Federal contractors and subcontractors are prohibited from discriminating against applicants and employees for inquiring about, discussing, or disclosing information about their pay or the pay of their co-workers, subject to certain limitations.

E.O. 11246's basic coverage applies to Federal contractors and subcontractors and to Federally assisted construction contractors holding a government contract in excess of $10,000, or government contracts that have, or can reasonably be expected to have, an aggregate total value exceeding $10,000 in a 12-month period. E.O. 11246 also applies to government bills of lading, depositories of Federal funds in any amount, and to financial institutions that are issuing and paying agents for U.S. Savings Bonds. E.O. 11246's Affirmative Action Program (AAP) requirements apply to Federal contractors and subcontractors with 50 or more employees and a contract of $50,000 or more.

Section 503 prohibits Federal contractors and subcontractors from discriminating in employment against individuals with disabilities. It also requires Federal contractors and subcontractors to take affirmative action to ensure equal employment opportunity for individuals with disabilities. Its requirements apply Federal contractors and subcontractors with a Government contract in excess of $15,000 and its AAP coverage applies to Federal contractors and subcontractors with 50 or more employees and a contract of $50,000 or more.

VEVRAA prohibits employment discrimination against protected veterans. It also requires Federal contractors and subcontractors to take affirmative action to ensure equal employment opportunity for protected veterans. Its requirements apply to Federal contractors and subcontractors with a Government contract of $150,000 or more, and its AAP coverage applies to Federal contractors and subcontractors with 50 or more employees and a contract of $150,000 or more. This information collection request (ICR) seeks reauthorization for the annual AAP online certification process for Federal contractors and for a secure method for Federal contractors to submit AAPs electronically to OFCCP when they are scheduled for a compliance evaluation.

II. Review Focus

OFCCP is particularly interested in comments that:

• Evaluate the proposed frequency and level of information collection;

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

III. Current Actions

OFCCP seeks renewal for this information collection to carry out its responsibilities to enforce the provisions of the three legal authorities it administers.

Type of Review: Renewal.

Agency: Office of Federal Contract Compliance Programs.

Title: Contractor Portal.

OMB Control Number: 1250-0012.

Agency Number: None.

Affected Public: Business or other for-profit entities.

Total Respondents: 98,257.

Total Annual Responses: 98,257.

Average Time per Response: .42 hours for new contractors; .13 hours for existing contractors.

Estimated Total Burden Hours: 13,082.

Frequency: Annual.

Total Monetized Burden Cost: $932,354.

Total Burden Costs to Federal Government: $628,550.

Comments submitted in response to this notice will be summarized and/or included in the request for OMB approval of the information collection request; they will also become a matter of public record.

Tina T. Williams,
Acting Deputy Director of OFCCP and Director of Policy & Program Development, Office of Federal Contract Compliance Programs.

[FR Doc. 2023-27241 Filed 12-11-23; 8:45 am]

BILLING CODE 4510-CM-P